DEPARTMENT OF HEALTH AND HUMAN SERVICES

Administration for Children and Families

[Office of Management and Budget #: 0970-0604]

Proposed Information Collection Activity; Administration for Children and Families Congressionally Directed Community Projects—Uniform Project Description

AGENCY: Office of Planning, Research, and Evaluation, Administration for Children and Families, U.S. Department of Health and Human Services.

ACTION: Request for public comments.

SUMMARY: The Administration for Children and Families (ACF) Office of Planning, Research, and Evaluation (OPRE) is requesting a 3-year extension with revisions to the information collection activities approved by the Office of Management and Budget (OMB): ACF Congressionally Directed Community Projects—Universal Project Description (CDCP-UPD)(OMB#: 0970-0604, expiration March 31, 2026). Revisions are based on lessons learned from previous years. Language is simplified for application requirements. This is expected to reduce the application burden.

DATES: Comments due March 24, 2026.

ADDRESSES: In compliance with the requirements of the Paperwork Reduction Act of 1995, ACF is soliciting public comment on the specific aspects of the information collection described above. You can obtain copies of the proposed collection of information and submit comments by emailing opreinfocollection@acf.hhs.gov. Identify all requests by the title of the information collection.

SUPPLEMENTARY INFORMATION:

Description: CDCP recipients are identified annually by Congress through Appropriations for ACF. The CDCP-UPD provides standard language and sections available for use by ACF program offices to solicit the required project description and project budget information from recipients of CDCP projects. Applications are required for CDCP as prescribed by Department of Health and Human Services (HHS) regulations 2 CFR 200.206. In addition to the information required by regulation, the CDCP-UPD provides a selection of text options for the program offices to communicate the application requirements to the recipients, as required by 2 CFR 200.207.

The CDCP-UPD gathers information regarding the CDCP recipients' project activities, timeline, organizational capacity, and budget justification. The CDCP-UPD ensures sufficient information is obtained to assess risk, identify needs for technical assistance and monitoring, and address other requirements of Congress, ACF, HHS, OMB, and funding and statutory regulation.

The CDCP-UPD has been streamlined and revised to improve navigation and usability. Critical required information is highlighted and easier to find, unnecessary or redundant information removed, language simplified and some sections reformatted for easier reading.

Respondents: The CDCP recipients are organizations identified annually by Congress under annual appropriations. It is estimated that 125 CDCP recipients will be identified annually in future ACF appropriations.

Annual Burden Estimates

The revisions will reduce respondent burden by decreasing the average time required to complete the application. The streamlined format will improve navigability, allowing applicants to more easily identify required information. Simplified language and formatting will clarify application requirements and reduce the submission of unnecessary information.

Instrument | Annual number of respondents | Total number of responses per respondent | Average burden hours per response | Annual burden hours
CDCP-UPD | 125 | 1 | 20 | 2,500

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act § 1110 [42 U.S.C. 1310].

Mary C. Jones,
ACF/OPRE Certifying Officer.

[FR Doc. 2026-01259 Filed 1-22-26; 8:45 am]

BILLING CODE 4184-78-P